DEPARTMENT OF THE INTERIOR

Minerals Management Service

30 CFR Parts 203, 210, 250, 251, 253, 254, 256, 280, and 291

[Docket No. MMS-OMM-2009-0008]

RIN 1010-AD52

Outer Continental Shelf—Technical Corrections

AGENCY: Minerals Management Service (MMS), Interior.

ACTION: Final rule; technical corrections and announcement of effective dates.

SUMMARY: This document makes technical changes to regulations that were published in various Federal Register documents and are codified in the Code of Federal Regulations, as well as announcing the approval by the Office of Management and Budget of information collection requirements contained in two previously published regulations.

DATES: This rule is effective on September 14, 2009. The information collection requirements contained in the rulemaking (63 FR 42699, published August 11, 1998) for 30 CFR part 253, were approved by the Office of Management and Budget (OMB) on October 7, 1998, and the information collection requirements contained in the rulemaking (63 FR 2605, published January 16, 1998) for 30 CFR 203.61, were approved by OMB on May 30, 1998.

FOR FURTHER INFORMATION CONTACT: Cheryl Blundon, Regulatory Specialist at (703) 787-1607, fax (703) 787-1546, or e-mail cheryl.blundon@mms.gov.

SUPPLEMENTARY INFORMATION: Changes to regulations: The technical corrections in this rule affect all parties who do business with MMS. This rulemaking does the following:

(1) Remove erroneous dates and make corrections;

(2) Revise and update the paperwork authority in § 203.5;

(3) Revise the MMS mail stop;

(4) Correct and remove Editorial Note in 30 CFR 203; and,

(5) Announce dates of effective information collections.

Background

(1) In various subparts throughout the 30 CFR, there are dates that are no longer in effect. Therefore, this rulemaking removes the irrelevant dates and in the same date correction, where applicable, changes the words “shall” and “which”, to, “must” and “that”.

(2) Since initial rulemaking in January 2004 (69 FR 3509), the information collection requirements have been consolidated. The OMB, through a Notice of Action dated April 30, 2005, approved the information collection merge of 1010-0153 into the primary collection 1010-0071. This rulemaking updates the regulatory text to reflect this action.

(3) In 2008, MMS moved offices in the Main Interior Building in Washington, DC. As a result, the proper mail stop for inquiries related to regulations in the CFR changed from 4230 to 5438. The regulations in the various 30 CFR Parts need to be amended to reflect the official change of the mail stop.

(4) Due to final rulemaking on November 18, 2008 (73 FR 69513), 1010-AD33, Royalty Relief, had an editorial note added by the Federal Register due to MMS inadvertently leaving out the word “introductory” in the amendatory language for 30 CFR 203.45. This rulemaking corrects the amendatory language per the intention of the 1010-AD33 rulemaking.

(5) The MMS published the following two final rules in 1998. The rules were published before OMB approved the information collection requirements so the Federal Register added Effective Date Notes to these regulations. The OMB approved the information collection requirements but the Effective Date Notes were not removed. This rulemaking publication satisfies the statements that the MMS would publish a document announcing the effective dates of the rule changes requiring OMB approval.

(a) Effective February 17, 1998, (63 FR 2605) rulemaking established a new requirement pertaining to information required for a complete application for royalty relief. This rulemaking contained information collection requirements subject to the Paperwork Reduction Act of 1995 that were not effective until after approval by OMB. On May 30, 1998, OMB approved the collection of information requirements in 30 CFR part 203. This information collection was assigned OMB Control Number 1010-0071.

(b) On August 11, 1998, (63 FR 42699) rulemaking established new requirements for demonstrating oil spill financial responsibility for removal costs and damages caused by oil discharges and substantial threats of oil discharges from oil and gas exploration and production facilities and associated pipelines. The rule also implemented the authority of the Oil Pollution Act of 1990. This rulemaking contained information collection requirements subject to the Paperwork Reduction Act of 1995 that were not effective until after approval by OMB. On October 7, 1998, OMB approved the collection of information requirements and MMS forms required for 30 CFR part 253. This information collection was assigned OMB Control Number 1010-0106.

This document corrects regulations in 30 CFR parts 203, 210, 250, 251, 253, 254, 256, 280, and 291 to reflect these technical changes. Because this rule makes no substantive regulatory changes, MMS for good cause finds that notice and public comment are impracticable and unnecessary pursuant to 5 U.S.C. 553(b)(3)(B). For the same reason, MMS finds good cause to waive the delay in effectiveness pursuant to 5 U.S.C. 553(d). The rule does not require any regulated party to adjust their conduct, but only makes technical corrections.

The following table shows the current regulation and what changes were made.

Current citation | Revised text
EFFECTIVE DATE NOTE: at the end of § 203.61 | Removed.
EFFECTIVE DATE NOTE: at the end of the Subpart F (table of contents and before § 253.1 | Removed.
§ 203.5 | Revised to reflect correct OMB control number.
Editorial Note: at the end of § 203.45 | Removed.
§ 203.45(e) | Added correct language from 73 FR 69513 that did not get codified (public had opportunity to comment in both proposed and final rulemaking).
§ 203.82(d) | Amended the phrase “Mail Stop 4230” to “Mail Stop 5438”.
§ 210.20 | Amended the phrase “Mail Stop 4230” to “Mail Stop 5438”.
§ 250.108(b), | Removed the date no longer in effect.
§ 250.199(d) | Amended the phrase “Mail Stop 4230” to “Mail Stop 5438”.
§ 250.233(b)(2) | In the second column of the table, removed the word “notify” and added the word “other” in its place.
§ 250.441(b) | Removed the date no longer in effect.
§ 250.510 | Removed the date no longer in effect. Changed the word “shall” to “must”, and the word “which” to “that”.
§ 250.511 | Removed the date no longer in effect. Changed the word “shall” to “must”, and the word “which” to “that”.
§ 250.515(b) | Removed the words, “blind or”, in (b)(1-3). Removed (b)(5) since removing the words in (b)(1-3) corrected the regulation.
§ 250.515(c), (c)(1) | Removed the date no longer in effect. Changed the word “shall” to “must”.
§ 250.615(b) | Removed the words, “blind or”, in (b)(1-3). Removed (b)(5) since removing the words in (b)(1-3) corrected the regulation.
§ 250.615(c), (c)(1) | Removed the date no longer in effect. Changed the word “shall” to “must”.
§ 250.803(b)(5)(ii) | Removed the date no longer in effect. Changed the word “shall” to “must”, and the word “which” to “that”.
§ 250.1604(f) | Removed the date no longer in effect. Changed the word “shall” to “must”.
§ 250.1605(h) | Removed the date no longer in effect. Changed the word “shall” to “must”.
§ 250.1610(d)(1) | Removed the date no longer in effect. Changed the word “shall” to “must”, and the word “which” to “that”.
§ 250.1613(b), (c), (d), (e) | Removed paragraph (b) and the following undesignated paragraph no longer in effect. Redesignated paragraphs (c), (d), and (e) as paragraphs (b), (c), and (d).
§ 251.15(e) | Amended the phrase “Mail Stop 4230” to “Mail Stop 5438”.
§ 253.5(d) | Amended the phrase “Mail Stop 4230” to “Mail Stop 5438”.
§ 253.44 | Removed the section since the dates are no longer in effect. [RESERVED] the section number for future use.
§ 254.9(d) | Amended the phrase “Mail Stop 4230” to “Mail Stop 5438”.
§ 256.0(d) | Amended the phrase “Mail Stop 4230” to “Mail Stop 5438”.
§ 256.64(a)(9) | Removed the section since the date is no longer in effect.
§ 280.13(1) | Changed the Alaska Region address.
§ 280.80(e) | Amended the phrase “Mail Stop 4230” to “Mail Stop 5438”.
§ 291.1(e); 103; 106(a); 107(a) | Amended the phrase “Mail Stop 4230” to “Mail Stop 5438”.

Procedural Matters

Regulatory Planning and Review (Executive Order (E.O.) 12866)

This rule is not a significant rule as determined by the Office of Management and Budget (OMB) and is not subject to review under E.O. 12866.

(1) This rule will not have an annual effect of $100 million or more on the economy because it only makes technical changes to existing regulations. It will not adversely affect in a material way the economy, productivity, competition, jobs, the environment, public health or safety, or State, local, or Tribal governments or communities.

(2) This rule will not create a serious inconsistency or otherwise interfere with action taken or planned by another agency. It will have no effect on any other agency.

(3) This rule will not alter the budgetary effects of entitlements, grants, user fees or loan programs, or the rights or obligations of their recipients.

(4) This rule will not raise novel legal or policy issues.

Regulatory Flexibility Act (RFA)

The Department of the Interior certifies that this rule would not have a significant economic effect on a substantial number of small entities under the Regulatory Flexibility Act (5 U.S.C. 601 et seq.) because it only makes technical changes to existing regulations.

Your comments are important to us. The Small Business and Agriculture Regulatory Enforcement Ombudsman and 10 Regional Fairness Boards were established to receive comments from small business about Federal agency enforcement actions. The Ombudsman will annually evaluate the enforcement activities and rate each agency's responsiveness to small business. If you wish to comment on the actions of MMS, call 1-888-734-3247. You may comment to the Small Business Administration without fear of retaliation. Allegations of discrimination/retaliation filed with the Small Business Administration will be investigated for appropriate action.

Small Business Regulatory Enforcement Fairness Act

The rule is not a major rule under the Small Business Regulatory Enforcement Fairness Act (5 U.S.C. 801 et seq.). This rule:

a. Will not have an annual effect on the economy of $100 million or more.

b. Will not cause a major increase in costs or prices for consumers, individual industries, Federal, State, or local government agencies, or geographic regions.

c. Will not have significant adverse effects on competition, employment, investment, productivity, innovation, or the ability of U.S.-based enterprises to compete with foreign-based enterprises.

Unfunded Mandates Reform Act of 1995

This proposed rule would not impose an unfunded mandate on State, local, or Tribal governments or the private sector of more than $100 million per year. The proposed rule would not have a significant or unique effect on State, local, or Tribal governments or the private sector. A statement containing the information required by the Unfunded Mandates Reform Act (2 U.S.C. 1501 et seq.) is not required.

Takings Implication Assessment (E.O. 12630)

Under the criteria in E.O. 12630, this proposed rule does not have significant takings implications. The proposed rule is not a governmental action capable of interference with constitutionally protected property rights. A Takings Implication Assessment is not required.

Federalism (E.O. 13132)

Under the criteria in E.O. 13132, this proposed rule does not have federalism implications. This proposed rule would not substantially and directly affect the relationship between the Federal and State governments. To the extent that State and local governments have a role in OCS activities, this proposed rule would not affect that role. A Federalism Assessment is not required.

Civil Justice Reform (E.O. 12988)

This rule complies with the requirements of E.O. 12988. Specifically, this rule:

a. Meets the criteria of section 3(a) requiring that all regulations be reviewed to eliminate errors and ambiguity and be written to minimize litigation; and

b. Meets the criteria of section 3(b)(2) requiring that all regulations be written in clear language and contain clear legal standards.

Consultation With Indian Tribes (E.O. 13175)

Under the criteria in E.O. 13175, we have evaluated this proposed rule and determined that it has no substantial effects on Federally recognized Indian Tribes. There are no Indian or Tribal lands in the OCS.

Paperwork Reduction Act (PRA)

The rule does not contain any new information collection requirements subject to the PRA; therefore, it does not require a submittal to OMB for review and approval under the PRA (44 U.S.C. 3501 et seq). Any information collection burdens referenced in this rulemaking are already approved under various OMB Control Numbers. The PRA provides that an agency may not conduct or sponsor a collection of information unless it displays a currently valid OMB control number. Until OMB approves a collection of information and assigns a control number, you are not required to respond.

National Environmental Policy Act (NEPA) of 1969

This rule does not constitute a major Federal action significantly affecting the quality of the human environment. A detailed statement under the National Environmental Policy Act of 1969 is not required because the rule is covered by a categorical exclusion. This rule is excluded from the requirement to prepare a detailed statement because it qualifies as a regulation of an administrative nature (for further information see 43 CFR 46.210(i)). We have also determined that the rule does not involve any of the extraordinary circumstances listed in 43 CFR 46.215 that would require further analysis under the National Environmental Policy Act.

Data Quality Act

In developing this rule, we did not conduct or use a study, experiment, or survey requiring peer review under the Data Quality Act (Pub. L. 106-554, app. C § 515, 114 Stat. 2763, 2763A-153-154).

Effects on the Energy Supply (E.O. 13211)

This rule is not a significant energy action under the definition in E.O. 13211. A Statement of Energy Effects is not required.

List of Subjects

30 CFR Part 203

Oil and gas exploration, Reporting and recordkeeping requirements.

30 CFR Part 210

Oil and gas exploration, Public lands—mineral resources, Reporting and recordkeeping requirements.

30 CFR Part 250

Administrative practice and procedure, Oil and gas exploration, Public lands—rights-of-way, Reporting and recordkeeping requirements.

30 CFR Part 251

Public lands—mineral resources, Reporting and recordkeeping requirement.

30 CFR Part 253

Environmental protection, Investigations, Oil and gas exploration, Reporting and recordkeeping requirements.

30 CFR Part 254

Oil and gas exploration, Public lands—minerals resources, Reporting and recordkeeping requirements.

30 CFR Part 256

Administrative practice and procedure, Oil and gas exploration, Reporting and recordkeeping requirements.

30 CFR Part 280

Reporting and recordkeeping requirements.

30 CFR Part 291

Oil and gas, Reporting and recordkeeping requirements.

Dated: September 2, 2009.
Ned Farquhar,
Acting Assistant Secretary, Land and Minerals Management.

For the reasons stated above, MMS amends 30 CFR Parts 203, 210, 250, 251, 253, 254, 256, 280, and 291 as follows:

PART 203—RELIEF OR REDUCTION IN ROYALTY RATES

1. The authority citation for part 203 continues to read as follows:

Authority: 25 U.S.C. 396 et seq.; 25 U.S.C. 396a et seq.; 25 U.S.C. 2101 et seq.; 30 U.S.C. 181 et seq.; 30 U.S.C. 351 et seq.; 30 U.S.C. 1001 et seq.; 30 U.S.C. 1701 et seq.; 31 U.S.C. 9701; 42 U.S.C. 15903-15906; 43 U.S.C. 1301 et seq.; 43 U.S.C. 1331 et seq.; and 43 U.S.C. 1801 et seq.

2. Revise § 203.5 to read as follows:

§ 203.5 What is MMS's authority to collect information?

(a) The Office of Management and Budget (OMB) has approved the information collection requirements in this part under 44 U.S.C. 3501 et seq., and assigned OMB Control Number 1010-0071. The title of this information collection is “30 CFR part 203, Relief or Reduction in Royalty Rates.”

(b) The MMS collects this information to make decisions on the economic viability of leases requesting a suspension or elimination of royalty or net profit share. Responses are required to obtain a benefit or are mandatory according to 43 U.S.C. 1331 et seq. The MMS will protect information considered proprietary under applicable law and under regulations at 30 CFR 203.63, “How do I assess my chances for getting relief?” and 250.197, “Data and information to be made available to the public or for limited inspection.”

(c) An agency may not conduct or sponsor, and a person is not required to respond to a collection of information unless it displays a currently valid OMB control number.

(d) Send comments regarding any aspect of the collection of information under this part, including suggestions for reducing the burden, to the Information Collection Clearance Officer, Minerals Management Service, Mail Stop 5438, 1849 C Street, NW., Washington, DC 20240.

3. Revise § 203.45(e), introductory text, to read as follows:

§ 203.45 If I drill a certified unsuccessful well, what royalty relief will my lease earn?

* * * * *

(e) If the same wellbore that earns an RSS as a certified unsuccessful well later produces from a perforated interval the top of which is 15,000 feet TVD or deeper and becomes a qualified well, it will be subject to the following conditions:

* * * * *

§ 203.82 [Amended]

4. In § 203.82(d), remove the words “Mail Stop 4230,” and add, in their place, “Mail Stop 5438,”.

PART 210—FORMS AND REPORTS

5. The authority citation for part 210 continues to read as follows:

Authority: 5 U.S.C. 301 et seq.; 25 U.S.C. 396, 2107; 30 U.S.C. 189, 190, 359, 1023, 1751(a); 31 U.S.C. 3716, 9701; 43 U.S.C. 1334, 1801 et seq.; and 44 U.S.C. 3506(a).

§ 210.20 [Amended]

6. In § 210.20, remove the words “Mail Stop 4230,” and add, in their place, “Mail Stop 5438,”.

PART 250—OIL AND GAS AND SULPHUR OPERATIONS IN THE OUTER CONTINENTAL SHELF

7. The authority citation for part 250 continues to read as follows:

Authority: 31 U.S.C. 9701, 43 U.S.C. 1334.

8. Revise § 250.108(b) to read as follows:

§ 250.108 What requirements must I follow for cranes and other material-handling equipment?

* * * * *

(b) All cranes installed on fixed platforms must be equipped with a functional anti-two block device.

* * * * *

§ 250.199 [Amended]

9. In § 250.199(d), remove the words “Mail Stop 4230,” and add, in their place, “Mail Stop 5438,”.

§ 250.233 [Amended]

10. In § 250.233(b)(2), in the second column of the table remove the word “notify”, and add, in its place, the word “other”.

11. Revise § 250.441(b) to read as follows:

§ 250.441 What are the requirements for a surface BOP stack?

* * * * *

(b) Your surface BOP stack must include at least four remote-controlled, hydraulically operated BOPs consisting of an annular BOP, two BOPs equipped with pipe rams, and one BOP equipped with blind-shear rams. The blind-shear rams must be capable of shearing the drill pipe that is in the hole.

* * * * *

12. Revise § 250.510 to read as follows:

§ 250.510 Diesel engine air intakes.

Diesel engine air intakes must be equipped with a device to shut down the diesel engine in the event of runaway. Diesel engines that are continuously attended must be equipped with either remote operated manual or automatic-shutdown devices. Diesel engines that are not continuously attended must be equipped with automatic-shutdown devices.

13. Revise § 250.511 to read as follows:

§ 250.511 Traveling-block safety device.

All units being used for well-completion operations that have both a traveling block and a crown block must be equipped with a safety device that is designed to prevent the traveling block from striking the crown block. The device must be checked for proper operation weekly and after each drill-line slipping operation. The results of the operational check must be entered in the operations log.

14. Amend § 250.515 by:

(a) Revising the table in paragraph (b);

(b) Revising the introductory text of paragraph (c); and

(c) Revising paragraph (c)(1) to read as follows:

§ 250.515 Blowout prevention equipment.

* * * * *

(b) * * *

When | The minimum BOP stack must include
(1) The expected pressure is less than 5,000 psi, | Three BOPs consisting of an annular, one set of pipe rams, and one set of blind-shear rams.
(2) The expected pressure is 5,000 psi or greater or you use multiple tubing strings, | Four BOPs consisting of an annular, two sets of pipe rams, and one set of blind-shear rams.
(3) You handle multiple tubing strings simultaneously, | Four BOPs consisting of an annular, one set of pipe rams, one set of dual pipe rams, and one set of blind-shear rams.
(4) You use a tapered drill string, | At least one set of pipe rams that are capable of sealing around each size of drill string. If the expected pressure is greater than 5,000 psi, then you must have at least two sets of pipe rams that are capable of sealing around the larger size drill string. You may substitute one set of variable bore rams for two sets of pipe rams.

(c) The BOP systems for well completions must be equipped with the following:

(1) A hydraulic-actuating system that provides sufficient accumulator capacity to supply 1.5 times the volume necessary to close all BOP equipment units with a minimum pressure of 200 psi above the precharge pressure without assistance from a charging system. Accumulator regulators supplied by rig air and without a secondary source of pneumatic supply, must be equipped with manual overrides, or alternately, other devices provided to ensure capability of hydraulic operations if rig air is lost.

* * * * *

15. Amend § 250.615 by:

(a) Revising the table in paragraph (b);

(b) Revising the introductory text of paragraph (c); and

(c) Revising paragraph (c)(1) to read as follows:

§ 250.615 Blowout prevention equipment.

* * * * *

(b) * * *

When | The minimum BOP stack must include
(1) The expected pressure is less than 5,000 psi, | Three BOPs consisting of an annular, one set of pipe rams, and one set of blind-shear rams.
(2) The expected pressure is 5,000 psi or greater or you use multiple tubing strings, | Four BOPs consisting of an annular, two sets of pipe rams, and one set of blind-shear rams.
(3) You handle multiple tubing strings simultaneously, | Four BOPs consisting of an annular, one set of pipe rams, one set of dual pipe rams, and one set of blind-shear rams.
(4) You use a tapered drill string, | At least one set of pipe rams that are capable of sealing around each size of drill string. If the expected pressure is greater than 5,000 psi, then you must have at least two sets of pipe rams that are capable of sealing around the larger size drill string. You may substitute one set of variable bore rams for two sets of pipe rams.

(c) The BOP systems for well-workover operations with the tree removed must be equipped with the following:

(1) A hydraulic-actuating system that provides sufficient accumulator capacity to supply 1.5 times the volume necessary to close all BOP equipment units with a minimum pressure of 200 psi above the precharge pressure without assistance from a charging system. Accumulator regulators supplied by rig air and without a secondary source of pneumatic supply, must be equipped with manual overrides, or alternately, other devices provided to ensure capability of hydraulic operations if rig air is lost;

* * * * *

16. Revise § 250.803(b)(5)(ii) to read as follows:

§ 250.803 Additional production system requirements.

* * * * *

(b) * * *

(5) * * *

(ii) Diesel engine air intake. All diesel engine air intakes must be equipped with a device to shutdown the diesel engine in the event of runaway. Diesel engines that are continuously attended must be equipped with either remote operated manual or automatic shutdown devices. Diesel engines that are not continuously attended must be equipped with automatic shutdown devices.

* * * * *

17. Revise § 250.1604(f) to read as follows:

§ 250.1604 General requirements.

* * * * *

(f) Traveling-block safety device. All drilling units being used for drilling, well-completion, or well-workover operations that have both a traveling block and a crown block must be equipped with a safety device that is designed to prevent the traveling block from striking the crown block. The device must be checked for proper operation weekly and after each drill-line slipping operation. The results of the operational check must be entered in the operations log.

18. Revise § 250.1605(h) to read as follows:

§ 250.1605 Drilling requirements.

* * * * *

(h) Diesel-engine air intakes. Diesel-engine air intakes must be equipped with a device to shut down the diesel engine in the event of runaway. Diesel engines that are continuously attended must be equipped with either remote-operated manual or automatic-shutdown devices. Diesel engines that are not continuously attended must be equipped with automatic shutdown devices.

19. Revise § 250.1610(d)(1) to read as follows:

§ 250.1610 Blowout preventer systems and system components.

* * * * *

(d) * * *

(1) An accumulator system that provides sufficient capacity to supply 1.5 times the volume necessary to close and hold closed all BOP equipment units with a minimum pressure of 200 psi above the precharge pressure, without assistance from a charging system. Accumulator regulators supplied by rig air that do not have a secondary source of pneumatic supply must be equipped with manual overrides or other devices alternately provided to ensure capability of hydraulic operations if rig air is lost.

* * * * *

§ 250.1613 [Amended]

20. In § 250.1613, remove paragraph (b) and the undesignated paragraph which follows it; and redesignate paragraphs (c), (d), and (e) as paragraphs (b), (c), and (d).

PART 251—GEOLOGICAL AND GEOPHYSICAL (G&G) EXPLORATIONS OF THE OUTER CONTINENTAL SHELF

21. The authority citation for part 251 continues to read as follows:

Authority: 43 U.S.C. 1331 et seq., 31 U.S.C. 9701.

§ 251.15 [Amended]

22. In § 251.15(e), remove the words “Mail Stop 4230,” and add, in their place, “Mail Stop 5438,”.

PART 253—OIL SPILL FINANCIAL RESPONSIBLITY FOR OFFSHORE FACILITIES

23. The authority citation for part 253 is revised to read as follows:

Authority: 33 U.S.C. 2716, 28 U.S.C. 2461.

§ 253.5 [Amended]

24. In § 253.5(d), remove the words “Mail Stop 4230,” and add, in their place, “Mail Stop 5438,”.

§ 253.44 [Removed and Reserved]

25. Remove and reserve § 253.44.

PART 254—OIL SPILL RESPONSE REQUIREMENTS FOR FACILITIES LOCATED SEAWARD OF THE COAST LINE

26. The authority citation for part 254 continues to read as follows:

Authority: 33 U.S.C. 1321.

§ 254.9 [Amended]

27. In § 254.9(d), remove the words “Mail Stop 4230,” and add, in their place, “Mail Stop 5438,”.

PART 256—LEASING OF SULPHUR OR OIL AND GAS IN THE OUTER CONTINENTAL SHELF

28. The authority citation for part 256 continues to read as follows:

Authority: 31 U.S.C. 9701, 42 U.S.C. 6213, and 43 U.S.C. 1334.

§ 256.0 [Amended]

29. In § 256.0(d), remove the words “Mail Stop 4230,” and add, in their place, “Mail Stop 5438,”.

§ 256.64 [Amended]

30. In § 256.64, remove paragraph (a)(9).

PART 280—PROSPECTING FOR MINERALS OTHER THAN OIL, GAS, AND SULPHUR ON THE OUTER CONTINENTAL SHELF

31. The authority citation for part 280 continues to read as follows:

Authority: 31 U.S.C. 9701, 43 U.S.C. 1334.

32. Revise the table in § 280.13 to read as follows:

§ 280.13 Where must I send my application or notification?

* * * * *

For the OCS off the . . . | Apply to . . .
(a) State of Alaska | Regional Supervisor for Resource Evaluation, Minerals Management Service, Alaska OCS Region, 3801 Centerpoint Drive, Suite 500, Anchorage, AK 99503.
(b) Atlantic Coast, Gulf of Mexico, Puerto Rico, or U.S. territories in the Caribbean Sea | Regional Supervisor for Resource Evaluation, Minerals Management Service, Gulf of Mexico OCS Region, 1201 Elmwood Park Boulevard, New Orleans, LA 70123.
(c) States of California, Oregon, Washington, Hawaii, or U.S. territories in the Pacific Ocean | Regional Supervisor for Resource Evaluation, Minerals Management Service, Pacific OCS Region, 770 Paseo Camarillo, Camarillo, CA 93010.

§ 280.80 [Amended]

33. In § 280.80(e), remove the words “Mail Stop 4230,” and add, in their place, “Mail Stop 5438,”.

PART 291—OPEN AND NON-DISCRIMINATORY ACCESS TO OIL AND GAS PIPELINES UNDER THE OUTER CONTINENTAL SHELF LANDS ACT

34. The authority citation for part 291 is revised to read as follows:

Authority: 31 U.S.C. 9701, 43 U.S.C. 1334.

§ 291.1 [Amended]

35. In § 291.1(e), remove the words “Mail Stop 4230,” and add, in their place, “Mail Stop 5438,”.

§ 291.103 [Amended]

36. In § 291.103 introductory text, remove the words “Mail Stop 4230,” and add, in their place, “Mail Stop 5438,”.

§ 291.106 [Amended]

37. In § 291.106(a), remove the words “Mail Stop 4230,” and add, in their place, “Mail Stop 5438,”.

§ 291.107 [Amended]

38. In § 291.107(a), remove the words “Mail Stop 4230,” and add, in their place, “Mail Stop 5438,”.

[FR Doc. E9-22027 Filed 9-11-09; 8:45 am]

BILLING CODE 4310-MR-P